DEPARTMENT OF COMMERCE

Foreign-Trade Zones Board

[Docket 27-2001]

Foreign-Trade Zone 158—Jackson, MS; Application for Subzone Status, Nissan North America, Inc., Plant (Motor Vehicles), Canton, MS

An application has been submitted to the Foreign-Trade Zones Board (the Board) by the Vicksburg-Jackson Foreign-Trade Zone, Inc., grantee of FTZ 158, requesting special-purpose subzone status for the motor vehicle manufacturing plant of Nissan North America, Inc. (NNA)(a subsidiary of Nissan Motor Co., Ltd., of Japan) located in Canton, Mississippi. The application was submitted pursuant to the provisions of the Foreign-Trade Zones Act, as amended (19 U.S.C. 81a-81u), and the regulations of the Board (15 CFR Part 400). It was formally filed on June 26, 2001.

The NNA plant (1,350 acres/ 2.6 million sq.ft.) is to be located on Nissan Drive adjacent to U.S. Highway 51 in Canton (Madison County), Mississippi, some 20 miles north of Jackson. The facility, currently under construction, will be used to produce light-duty passenger vehicles (pickup trucks, sport utility vehicles, minivans) for export and the domestic market. At full capacity, the facility (up to 4,000 employees) will manufacture up to approximately 250,000 vehicles annually. Components to be purchased from abroad (approximately 44% of material value) would include: engines and parts of engines, labels, body parts and trim, fasteners, catalytic converters, parts of steering systems, brake fittings, half shafts, transmissions and parts of transmissions, differentials, bearings and bearing housings, flywheels/pulleys, wiring harnesses, handles/knobs, gaskets, fasteners, carpet sets, windshields and windows, springs, relays, and switches (duty rate range: free—8.6%). Engines and transmissions would be sourced from NNA's production facility in Dechard, Tennessee (Subzone 78A-Site 2), which is currently undergoing a capital expansion for this activity. The application indicates that NNA's domestic sourcing will increase in the future.

FTZ procedures would exempt NNA from Customs duty payments on the foreign components used in export production (forecasted to be 6% of shipments). On its domestic sales and exports to NAFTA countries, NNA would be able to choose the duty rate that applies to finished passenger vehicles (2.5%) for the foreign inputs noted above that have higher rates. Customs duties would be deferred and possibly reduced on foreign status production equipment. The application indicates that subzone status would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is September 4, 2001. Rebuttal comments in response to material submitted during the foregoing period may be submitted during the subsequent 15-day period (to September 17, 2001).

A copy of the application and the accompanying exhibits will be available for public inspection at each of the following locations:

U.S. Department of Commere, Export Assistance Center 704 E. Main Street, Raymond, MS 39154.

Office of the Executive Secretary, Foreign-Trade Zones Board, U.S. Department of Commerce, Room 4008, 14th Street & Constitution Avenue, NW., Washington, DC 20230-0002

Dated: June 26, 2001.
Dennis Puccinelli,
Executive Secretary.

[FR Doc. 01-16705 Filed 7-2-01; 8:45 am]

BILLING CODE 3510-DS-P